DEPARTMENT OF LABOR

Occupational Safety and Health Administration

Agency Information-Collection Activities; Announcement of Office of Management and Budget (OMB) Approvals

AGENCY: Occupational Safety and Health Administration (OSHA), Labor.

ACTION: Notice of approval.

SUMMARY: The Occupational Safety and Health Administration (OSHA) announces that the Office of Management and Budget (OMB) approved the information-collection requirements found in certain sections of 29 CFR part 1926. This document provides the OMB approval numbers and expiration dates for these requirements.

FOR FURTHER INFORMATION CONTACT: Kathleen Martinez, Directorate of Policy, Occupational Safety and Health Administration, U.S. Department of Labor, Room N-3627, 200 Constitution Avenue, NW., Washington, DC 20210, telephone (202) 693-2444.

SUPPLEMENTARY INFORMATION: In a series of Federal Register notices, the Agency announced its requests to OMB to renew its current approvals for various information-collection (paperwork) requirements in its Construction standards. In these Federal Register announcements, the Agency provided 60-day comment periods for the public to respond to OSHA's burden-hour and cost estimates.

In accordance with the Paperwork Reduction Act of 1995 (44 U.S.C. 3501-3520), OMB recently renewed its approval for these information-collection requirements and assigned OMB control numbers to these requirements. The table below provides the following information for each of these OMB-approved requirements: The title of, and CFR reference to, the standard that contains the requirement and, in some cases, the title of the requirement; the Federal Register reference (date, volume, and leading page) to OSHA's request for public comment on its burden-hour and cost estimates; the OMB control number; and the new expiration date.

Title | Federal Register reference | OMB control number | Expiration date
Methylenedianline (29 CFR 1926.60) | 65 FR 11086 03/01/2000 | 1218-0183 | 01/31/2000
Rigging Equipment for Material Handling—Certifying Proof-Tests of Welded-End Attachments (29 CFR 1926.251(c)(15)(ii)) | 65 FR 15018 03/20/2000 | 1218-0233 | 06/30/2002
Material Hoists, Personnel Hoists, and Elevators—Certifying Tests and Inspections of Personnel Hoists (29 CFR 1926.552(c)(15)) | 65 FR 15652 03/23/2000 | 1218-0231 | 06/30/2002
General Provisions (for Blasting and the Use of Explosives)—Developing and Certifying Alternative Safety Methods (29 CFR 1926.900(k)(3)(i)) | 65 FR 15651 03/23/2000 | 1218-0217 | 06/30/2002
Underground Transportation of Explosives—Certifying Inspections of Trucks (29 CFR 1926.903(e)) | 65 FR 15650 03/23/2000 | 1218-0227 | 06/30/2002

Under 5 CFR 1320.5(b), an Agency cannot conduct, sponsor, or require a response to a collection of information unless: The collection displays a valid OMB control number; and the Agency informs responds that they are not required to respond to the collection of information unless it displays a currently valid OMB control number.

Authority and Signature

Charles N. Jeffress, Assistant Secretary of Labor for Occupational Safety and Health, directed the preparation of this notice. The authority for this notice is the Paperwork Reduction Act of 1995 (44 U.S.C. 3506) and Secretary of Labor's Order No. 3-2000 (65 FR 50017).

Signed at Washington, DC, on September 11th, 2000.
Charles N. Jeffress,
Assistant Secretary of Labor.

[FR Doc. 00-23701 Filed 9-14-00; 8:45 am]

BILLING CODE 4510-26-M